DEPARTMENT OF COMMERCE

National Oceanic and Atmospheric Administration

[RTID 0648-XB263]

Gulf of Mexico Fishery Management Council; Federal Funding Opportunity

AGENCY: National Marine Fisheries Service (NMFS), National Oceanic and Atmospheric Administration (NOAA), Commerce.

ACTION: Notice.

SUMMARY: The Gulf of Mexico Fishery Management Council is requesting proposals from highly-qualified contractors to organize and expand a vessel position monitoring system for the federally permitted Gulf of Mexico shrimp industry.

DATES: This will be a 12-18 month project and a maximum $350,000 is available to fund the work. Proposal Submission Deadline: August 20, 2021 by 11:59 p.m. EST.

ADDRESSES: Council address: Gulf of Mexico Fishery Management Council, 4701 W Spruce Street, Suite 200, Tampa, FL 33607; telephone: (813) 348-1630.

FOR FURTHER INFORMATION CONTACT: Dr. Carrie Simmons, Executive Director, Gulf of Mexico Fishery Management Council; carrie.simmons@gulfcouncil.org; telephone: (813) 348-1630.

SUPPLEMENTARY INFORMATION:

Proposal Submission Deadline Friday, August 20, 2021 by 11:59 p.m. EST

The Gulf of Mexico Fishery Management Council (Council) seeks a highly-qualified contractor to organize and expand a vessel position monitoring system for the federally permitted Gulf of Mexico shrimp industry. The current Gulf of Mexico electronic logbook (ELB) program that utilized a 3G cellular network to transmit data is no longer supported, and the server became unviable for data storage in December 2020. Approximately ⅓ of the vessels in the shrimp industry have been selected by the Science and Research Director to participate in the ELB monitoring program.¹ After transmission of the data from the shrimp vessels, vessel position monitoring data are securely housed by the National Marine Fisheries Service (NMFS) Southeast Fisheries Science Center (Science Center) and used for assessment and monitoring efforts including bycatch of finfish and interactions with protected resources across the Gulf of Mexico.

¹ https://ecfr.io/Title-50/Section-622.51.

The Council, in coordination with NMFS, is seeking to develop a new program that will provide for continued collection, storage, and transmission of shrimp vessel position data that are used to estimate shrimping effort. This new program is intended to replace the recently discontinued shrimp ELB program. In the interim, the Council is developing a document to require the owner or operator of a vessel with a valid federal shrimp permit to install an approved vessel monitoring system that archives vessel location and automatically transmits this data to NMFS. In addition, the newly developed program will be required to meet NMFS hardware/software type approval.² Thus, the intent and need for this study is to test the P-Sea WindPlot ³ software program with a portion of the shrimp fleet in the near term to determine if it meets the needs of industry, Council, and NMFS.

² https://www.ecfr.gov/cgi-bin/retrieveECFR?gp=&SID=40795e9b7e80ab071d63d0f076d60d11&mc=true&r=SUBPART&n=sp50.12.600.q.

³ http://www.p-sea.com/.

Proposals should identify by region/state the number of vessels that will volunteer to participate in the proposed pilot program for vessel position monitoring in the Gulf of Mexico. The proposed work should clearly define methodology and intent for meeting the NMFS software and hardware requirements while documenting the estimated costs to the industry. The proposal should detail the methodology proposed for archiving the vessel location, data retention, and automatic transmission of the data to NMFS when within cellular/satellite range of land.

A team will establish selection criteria and review the proposals after the proposal submission deadline. The Council will develop an agreement with the selected contractor(s) with milestones and deliverables after the review and selection process. The selected contractor(s) will work with Council staff.

Background

During its January 2021 meeting, the Council identified unspent Council funds from the 2020 fiscal year. The Council is considering funding an expanded study that utilizes P-Sea WindPlot software as a replacement for the recently discontinued shrimp ELB program. Preliminary meetings with industry, such as the Shrimp Advisory Panel meeting ⁴ suggest that a majority of the shrimp fleet currently use the P-Sea WindPlot software program, which is installed on a desktop or laptop computer housed onboard the vessel; thus, the learning curve and potential annual cellular/satellite expenses are anticipated to be minimal. Further, leaders in the Gulf of Mexico shrimp industry support using this type of software program.

⁴ https://gulfcouncil.org/wp-content/uploads/D-8-Shrimp-AP-Summary-March-2021_final_revised.pdf.

Scope of Work

The contractor will be responsible for all data products outlined below and is encouraged to contribute additional products and suggestions in the proposal for this work. The selected contractor will also be responsible for presenting the mid-term and final project summary report to the Council's Scientific and Statistical Committees and to the Council. The proposed scope of work should include the following:

• The proposal must consider the use of P-Sea WindPlot software to collect the vessel position data for shrimp vessels, as this is the preferred software by industry. However, the contractor may also propose testing other hardware/software options simultaneously that meet the needs of industry, Council, and NMFS. The proposal should include the rationale and viability of any other hardware-software options proposed.

• The proposal should detail the methodology proposed for archiving the vessel position location, data retention, security, and automatic transmission of the data to a secure server when within cellular/satellite range of land.

• The proposal should identify, by state, the number of shrimp vessels actively participating in the fishery that will volunteer to participate in the proposed work in the Gulf of Mexico. This should be a representative subsample of the fleet using a random stratified approach.

• The proposed work should clearly define methodology and intent for meeting the NMFS software and hardware requirements approval process. For example, outline the methodology proposed to automatically transmit vessel position data, from the hardware/software device(s) onboard the shrimp vessel to a secure server when within cellular/satellite range.

• The proposal should detail the estimated costs to the industry for hardware/software, vessel position data storage, and monthly cellular/satellite transmission fees. The proposal should outline details about analysis of data from individual position points per vessel in the program that will be synthesized into vessel effort monitoring on a monthly basis.

Results and outcomes from this work will be provided to the Council and NMFS Southeast Fisheries Science Center.

Application Process

Contractor Qualifications: The successful applicant or applicant team will have demonstrable experience in fisheries, marine ecology, spatial management, or related field.

How to Apply: Applicants should submit a proposal to Gulf of Mexico Fishery Management Council by email (rfp.shrimpmonitoring@gulfcouncil.org) by 11:59 p.m. EST on August 20, 2021. Requests for additional information can also be accepted at this email address. Proposals should include the following elements and should not exceed 25 pages, excluding the Qualifications of Applicant and Letters of Support:

Executive Summary: A summary of the work proposed, including a brief summary of the applicant's qualifications.

Proposed Scope of Work: See bulleted list above.

Qualifications of Applicant: A summary of the qualifications of the applicant and other team members, if applicable. A curriculum vitae should be included for each individual who is expected to work on the project.

Proposed Budget: A detailed budget, including the basis for the charges (e.g., hourly rates, fixed fees, approved federally negotiated overhead rate and other costs consistent with federally allowable costs for sub-contractors). Travel costs for meeting with industry volunteers should be detailed. The proposal should also budget for traveling to SSC and Council meetings to present a mid-term and a final report, for an approximate total of four in-person meetings.

Letters of Support: Letters demonstrating collaboration with shrimp industry leaders will be ranked higher.

Proposed Timeline: A detailed timeline for working with industry representatives, testing of hardware/software devices, data transmission testing, data analyses, and mid-term and final reports should be provided.

Applicant References: Names, titles, full addresses, email addresses, and phone numbers for three clients for whom the applicant has provided similar services to those requested or are familiar with the applicant's work and the quality of the applicant's work products.

Proposal Evaluation Criteria and Next Steps

Proposals will be evaluated based on methodology and scope outlined in the proposed work plan including but not limited to the ability to deliver, in a timely manner a quality work product, references, timeline, and budget. The Council may request additional information as deemed necessary or negotiate modifications prior to providing support for a proposal. Once a proposal is selected for funding, a formal contract will be developed with the applicants.

Disclaimer

1. This project is being funded by federal funding authorized under the Magnuson-Stevens Fishery Conservation and Management Act through NOAA Fisheries Service and the Gulf of Mexico Fishery Management Council NOAA award number: NA20NMF4410011. Compliance with the Magnuson-Stevens Fishery Conservation and Management Act (Pub. L. 104-208 as amended), the current requirements of the Federal Office of Management and Budget, the Department of Commerce financial assistance standard terms and conditions, the National Oceanic and Atmospheric financial assistance administrative terms, all special award conditions specific to this award and all parts of the Uniform Guidance at Title 2 of the Code of Federal Regulations must be maintained.

2. The contractor is responsible for all costs conducting the work and presenting the mid-term and final results to the Scientific and Statistical Committees and Council.

3. Proposals and their accompanying documentation will not be returned, but retained as part of the Council's administrative documents.

4. All applicants included in the proposal must disclose any conflicts of interest and/or pending civil/criminal/fishery legal actions.

5. The Council reserves the right to accept or reject any or all applications received, negotiate with all qualified applicants, cancel or modify this request for proposals in part or in its entirety, or change the application guidelines, when it is in the best interests of the Council.

Authority: 16 U.S.C. 1801 et seq.

Dated: July 22, 2021.
Tracey L. Thompson,
Acting Deputy Director, Office of Sustainable Fisheries, National Marine Fisheries Service.

[FR Doc. 2021-16012 Filed 7-27-21; 8:45 am]

BILLING CODE 3510-22-P